DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Generic Clearance for Data User Evaluation Surveys.

Form Number(s): Various.

OMB Control Number: 0607-0760.

Type of Request: Regular submission.

Burden Hours: 7,500.

Number of Respondents: 90,000.

Average Hours Per Response: 5 minutes.

Needs and Uses: The U.S. Census Bureau plans to extend for an additional three years its generic clearance to conduct customer/product-based research.

This extension will allow continued use of customer satisfaction surveys, personal interviews, or focus group research to effectively improve and make more customer-oriented programs, products, and services.

The extended clearance for data collections would continue to cover customer/program-based research for any Census Bureau program area that needs to measure customer needs, uses, and preferences for statistical information and services. The customer base includes, but is not limited to previous, existing, and potential businesses and organizations, alternate Census Bureau data disseminators like State Data Centers, Business and Industry Data Centers, Census Information Centers, Federal or Census Depository Libraries, educational institutions, and not-for-profit or other organizations.

The generic clearance operates as a pre-approval from OMB to conduct various and unspecified customer surveys and includes an annual burden hour ceiling. Detailed information about individual customer surveys is provided to OMB for review a minimum of two weeks in advance of their planned start date. An annual report is provided to OMB recapping the surveys conducted over the past year.

Information collected from customer research helps the Census Bureau to measure its customer base—their use, satisfaction, and preferences for existing and future programs, products and services.

Affected Public: Individuals or households; Business or other for-profit organizations; Not-for-profit institutions; Federal government; State, Local or Tribal government.

Frequency: On occasion.

Respondent's Obligation: Voluntary.

Legal Authority: Executive Order 12862.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: August 30, 2007.
Gwellnar Banks,
Management Analyst, Office of the Chief Information Officer.

[FR Doc. E7-17539 Filed 9-4-07; 8:45 am]

BILLING CODE 3510-07-P